FEDERAL COMMUNICATIONS COMMISSION

47 CFR Part 73

[MB Docket No. 13-249; FCC 13-139]

Revitalization of the AM Radio Service

AGENCY: Federal Communications Commission.

ACTION: Notice of proposed rulemaking.

SUMMARY: In this document, the Commission adopted a Notice of Proposed Rulemaking (NPRM), seeking comment on a number of procedures designed to revitalize the AM broadcast radio service, and to ease regulatory burdens on existing AM broadcasters. The Commission also solicits further comments and suggestions designed to foster the revitalization of the AM broadcast radio service.

DATES: Comments may be filed no later than January 21, 2014 and reply comments may be filed no later than February 18, 2014. Written comments on the Paperwork Reduction Act proposed information collection requirements must be submitted by the public, Office of Management and Budget (OMB), and other interested parties on or before January 21, 2014.

ADDRESSES: You may submit comments, identified by MB Docket No. 13-249, by any of the following methods:

Federal eRulemaking Portal: http://www.regulations.gov. Follow the instructions for submitting comments.

Federal Communications Commission's Web site: http://www.fcc.gov/cgb/ecfs/. Follow the instructions for submitting comments.

Email: ecfs@fcc.gov. Include the docket number in the subject line of the message. See the SUPPLEMENTARY INFORMATION section of this document for detailed information on how to submit comments by email.

Mail: 445 12th Street SW., Washington, DC 20554.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

PRA comments should be submitted to Cathy Williams, Federal Communications Commission via email at PRA@fcc.gov and Cathy.Williams@fcc.gov and Nicholas A. Fraser, Office of Management and Budget via fax at 202-395-5167 or via email to Nicholas_A._Fraser@omb.eop.gov.

FOR FURTHER INFORMATION CONTACT: Peter Doyle, Chief, Media Bureau, Audio Division, (202) 418-2700; Thomas Nessinger, Senior Counsel, Media Bureau, Audio Division, (202) 418-2700.

For additional information concerning the Paperwork Reduction Act information collection requirements contained in this document, contact Cathy Williams at 202-418-2918, or via the Internet at Cathy.Williams@fcc.gov.

SUPPLEMENTARY INFORMATION: This is a summary of the Commission's Notice of Proposed Rulemaking (NPRM), FCC 13-139, adopted October 29, 2013, and released October 31, 2013.

Initial Paperwork Reduction Act of 1995 Analysis

This NPRM contains proposed information collection requirements. It will be submitted to the Office of Management and Budget (OMB) for review under section 3507(d) of the Paperwork Reduction Act of 1995 (PRA), Public Law 104-13, 109 Stat 163 (1995). The Commission, as part of its continuing effort to reduce paperwork burdens, invites the general public and OMB to comment on the proposed information collection requirements contained in this NPRM, as required by the PRA. Public and agency comments on the PRA proposed information collection requirements are due January 21, 2014. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, 116 Stat 729 (2002), see 44 U.S.C. 3506(c)(4), the Commission seeks specific comment on how it might “further reduce the information collection burden for small business concerns with fewer than 25 employees.”

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

The following information collection requirements would be initiated if the proposed rules contained in the NPRM are adopted.

OMB Control Number: 3060-xxxx.

Title: AM Station Modulation Dependent Carrier Level (MDCL) Notification Form; FCC Form 338.

Form Number: FCC Form 338.

Type of Review: New information collection.

Respondents: Business or other for-profit entities; Not-for-profit institutions.

Number of Respondents and Responses: 100 respondents and 100 responses.

Estimated Hours per Response: 1 hour.

Frequency of Response: On occasion reporting requirement.

Total Annual Burden: 100 hours.

Total Annual Costs: None.

Obligation to Respond: Required to obtain or retain benefits. The statutory authority for this information collection is contained in Sections 154(i), 303, 310 and 533 of the Communications Act of 1934, as amended.

Nature and Extent of Confidentiality: There is no need for confidentiality required with this collection of information.

Privacy Impact Assessment: No impact(s).

Needs and Uses: On October 31, 2013, the Commission released the Notice of Proposed Rule Making, Revitalization of the AM Radio Service (NPRM), FCC 13-139, MB Docket No. 13-249. In the NPRM, the Commission recognized that in September 2011, the Media Bureau (Bureau) had released an MDCL Public Notice, in which it stated that it would permit AM stations, by rule waiver or experimental authorization, to use transmitter control techniques that vary either the carrier power level or both the carrier and sideband power levels as a function of the modulation level. This allows AM licensees to reduce power consumption while maintaining audio quality and their licensed station coverage areas. These techniques are known as Modulation Dependent Carrier Level (MDCL) control technologies.

There are two basic types of MDCL control technologies. In one type, the carrier power is reduced at low modulation levels and increased at higher modulation levels. In the other type, there is full carrier power at low modulation levels and reduced carrier power and sideband powers at higher modulation levels. Use of any of these MDCL control technologies reduces the station's antenna input power to levels not permitted by 47 CFR 73.1560(a).

The MDCL Public Notice permitted AM station licensees wanting to use MDCL control technologies to seek either a permanent waiver of 47 CFR 73.1560(a) for those licensees already certain of the particular MDCL control technology to be used, or an experimental authorization pursuant to 47 CFR 73.1510 for those licensees wishing to determine which of the MDCL control technologies would result in maximum cost savings and minimum effects on the station's coverage area and audio quality. Since release of the MDCL Public Notice, 33 permanent waiver requests and 20 experimental requests authorizing use of MDCL control technologies have been granted by the Bureau.

AM station licensees using MDCL control technologies have reported significant savings on electrical power costs and few, if any, perceptible effects on station coverage area and audio quality. Accordingly, the NPRM tentatively concluded that use of MDCL control technologies reduces AM broadcasters' operating costs while maintaining a station's current level of service to the public, without interference to other stations. The Commission therefore, proposed wider implementation of MDCL control technologies by amending 47 CFR 73.1560(a), to provide that an AM station may commence operation using MDCL control technology without prior Commission authority, provided that the AM station licensee notifies the Commission of the station's MDCL control operation within 10 days after commencement of such operation using the Bureau's Consolidated Database System (CDBS). The NPRM solicits comments on the proposed rule change, as well as on the potential adverse effects of allowing AM stations to commence MDCL control technology operation without prior Commission authority. The NPRM also seeks comment as to the potential adverse effects, if any, of MDCL control technology implementation on other AM stations.

Consistent with the NPRM's proposal to allow AM broadcasters to implement MDCL technologies without prior authorization, by electronic notification within 10 days of commencing MDCL operations, the Commission created FCC Form 338, AM Station Modulation Dependent Carrier Level (MDCL) Notification. In addition to the standard general contact information, FCC Form 338 solicits minimal technical data, as well as the date that MDCL control operation commenced. This new information collection regarding FCC Form 338 needs OMB review and approval.

The following rule section is covered by this information collection and requires OMB approval:

47 CFR 73.1560(a)(1) specifies the limits on antenna input power for AM stations. AM stations using MDCL control technologies are not required to adhere to these operating power parameters. AM stations may, without prior Commission authority, commence MDCL control technology use, provided that within ten days after commencing such operation, the licensee submits an electronic notification of commencement of MDCL operation using FCC Form 338.

Summary of Notice of Proposed Rulemaking

1. The AM broadcast service is the oldest broadcasting service. For decades, it has been an integral part of American culture. Today, AM radio remains an important source of broadcast entertainment and information programming, particularly for locally oriented content. AM broadcasters provide unique, community-based programming to distinguish themselves from other media sources in an increasingly competitive mass media market, such as all-news/talk, all-sports, foreign language, and religious programming formats. Local programming is also prevalent on the AM dial, including discussions of local news, politics and public affairs, traffic announcements, and coverage of community events such as high school athletic contests.

2. The sustainability of the AM broadcast service has been threatened by the migration of AM listeners to newer media services, due to AM's technical limitations and the relative lack of consumer-friendly features such as real-time data and information displays. The AM band is also subject to interference concerns not faced by other broadcast sources. First, due to the nighttime propagation characteristics of AM signals, many AM stations are unable to operate at night, and many others must reduce operating power substantially and/or use a complex directional antenna system in order to avoid interference to co- and adjacent-channel AM stations at night. As a result, many AM stations are unable to serve sizeable portions of their audiences in the evening hours, and still others can provide no protected nighttime service. Second, reinforced structures, such as buildings with steel frames or aluminum siding, can block AM signals, hindering AM reception in urban areas where such structures are prevalent. Third, AM radio is particularly susceptible to interference from electronic devices of all types, including such ubiquitous items as TV sets, vehicle engines, fluorescent lighting, computers, and power lines, and noise from those sources is only expected to increase as electronic devices continue to proliferate. This combination of higher fidelity alternatives and increased interference to AM radio has led to a steady decline in listenership to AM radio, which was once the dominant form of audio entertainment. By 2010, AM listenership had decreased to just 17 percent of radio listening hours, with the decline being sharpest among younger listeners. The popularity of AM stations versus FM facilities is also on the decline: AM listening dropped by roughly 200,000 listeners between 2011 and 2012, while FM listenership increased during that time. Between 1990 and 2010, the number of AM stations decreased by 197 stations while the number of FM stations almost doubled.

3. The Commission has previously made efforts to revitalize the AM band. In 1991 the Commission adopted a comprehensive AM improvement plan. Review of the Technical Assignment Criteria for the AM Broadcast Service, Report and Order, 6 FCC Rcd 6273, 6275 (1991). That plan included three principal elements. First, new and revised AM technical standards were promulgated to reduce interference within AM stations' primary service areas. Second, ten “expanded band” frequencies (situated between 1605-1705 kHz) were opened to relocate select AM stations whose migration to those frequencies would significantly abate interference in the existing AM band. Finally, various measures were adopted affording broadcasters greater latitude and incentives to reduce interference through non-technical means. Additionally, in the past several years the Commission has instituted several discrete changes in its AM rules and policies designed to further enhance the AM service or reduce regulatory and technical burdens on AM broadcasters. These include streamlined procedures for employing alternative antennas, proposing community of license modifications, and directional antenna proofs of performance. These also include the authorization of rebroadcasting AM primary stations over FM translator stations, and the authorization of Modulation Dependent Carrier Level (MDCL) control technologies. On the heels of these AM improvement measures, the Commission initiated this rulemaking to consider additional options for revitalizing the AM band, in view of the significant technological, policy, and economic changes that have occurred in AM broadcasting since the Commission last did so in 1991. The NPRM sets forth some specific technical proposals and, where appropriate, proposed rule revisions. The Commission seeks comment on these proposals, as well as any other ideas for improving the quality of the AM radio service.

4. Open FM Translator Filing Window Exclusively for AM Licensees and Permittees. Under the Commission's current rules, AM stations are allowed to use authorized FM translator stations (i.e., those now licensed or authorized with construction permits that have not expired) to rebroadcast their AM signals, provided that no portion of the 60 dBµ contour of any such FM translator station extends beyond the lesser of (a) a 25-mile radius from the AM transmitter site, and (b) the 2 millivolts per meter (mV/m) daytime contour of the AM station. When an AM broadcaster acquires an FM translator, the broadcaster typically must relocate the translator both to meet the station's needs and to comply with the coverage contour requirements outlined above. Under the Commission's current FM translator rules, changes to FM translator facilities can be either major or minor. A major change is one either proposing a translator frequency more than three channels from its currently authorized transmitting frequency that is also not an intermediate frequency, or a physical move to a location at which the proposed 1 mV/m contour does not overlap with the currently authorized 1 mV/m contour, as well as any change in frequency relocating an unbuilt translator station from the non-reserved band to the reserved band, or vice-versa. 47 CFR 74.1233(a)(1). Applications for such major changes may only be made during specific announced filing windows. 47 CFR 74.1233(d)(2)(i). However, an FM translator owner may make a minor change—which meets both channel and contour overlap requirements described above—at any time.

5. The regulatory distinction between major and minor changes has led some translator licensees to attempt what would otherwise be dismissed as impermissible major changes, by filing multiple minor modification applications to “hop” the translator to new locations. Although not specifically prohibited by rule, this practice subverts the purpose of the Commission's minor change requirement and, therefore, the Commission's Media Bureau has concluded that the Commission may deny applications resulting in multiple “hops” pursuant to Section 308(a) of the Communications Act of 1934, as amended (47 U.S.C. 308(a)). At the same time, however, the contour overlap requirements for relocating FM translators, coupled with the fill-in coverage area restrictions on locating FM translators for use by AM broadcasters, limit the supply of available FM translators for individual AM licensees. Although a new FM translator filing window might alleviate this situation, opening the window to all applicants would require AM broadcasters seeking to establish new fill-in translators to compete at auction with other, non-AM broadcaster applicants, many of whom might foreclose opportunities for AM-rebroadcast translators by proposing mutually exclusive translator facilities, while others might apply within the contours of AM stations for the specific purpose of obstructing a local AM broadcaster from acquiring a translator station, forcing it to do business with the winning bidder. While there is a public interest in robust and competitive auctions in services subject to our competitive bidding procedures, there is also a compelling public interest in maintaining the vitality and utility of the AM service.

6. Accordingly, the Commission tentatively concluded that it should afford an opportunity, restricted to AM licensees and permittees, to apply for and receive authorizations for new FM translator stations for the sole and limited purpose of enhancing their existing service to the public. It therefore proposed to open a one-time filing window during which only AM broadcasters may participate, and in which each may apply for one, and only one, new FM translator station, in the non-reserved FM band (FM Channels 221-300), to be used solely to re-broadcast the broadcaster's AM signal to provide fill-in and/or nighttime service. The Commission proposed that the window would have the following conditions and limitations:

a. Eligible applicants must be AM broadcast licensees or permittees, and may apply for only one FM translator per AM station. The Commission tentatively concluded that this requirement is necessary, as AM broadcasters forced to rely on translators owned by other licensees and permittees run the risk that the FM translator owner might choose, for example, to relocate the translator to an area that does not fill in the AM station's daytime signal contour, or might opt to rebroadcast another primary station.

b. Applications for FM translators in this window must strictly comply with the existing fill-in coverage area technical restrictions on FM translators for AM stations, that is, must be located so that no part of the 60 dBµ contour of the FM translator will extend beyond the smaller of a 25-mile radius from the AM station's transmitter site, or the AM station's daytime 2 mV/m contour.

c. Any FM translator station authorized pursuant to this window will be permanently linked to the AM primary station acquiring it. That is, the FM translator station may only be authorized to the licensee or permittee of the AM primary station it rebroadcasts, rather than an independent party; the FM translator may only be used to rebroadcast the signal of the AM station to which it is linked (or originate nighttime programming during periods when a daytime-only AM station is not operating); and the authorization for such an FM translator station will only be issued subject to the condition that it may not be assigned or transferred except in conjunction with the primary AM station that it re-broadcasts and with which it is commonly owned. The Commission tentatively concluded that these conditions are necessary to accomplish the goals of the proposed filing window, as stated above. It makes little sense to provide AM broadcasters with an opportunity to enhance their service by applying for and receiving authorizations for new FM translator stations if those stations may then be assigned or transferred to independent parties unaffiliated with the primary AM stations, or used to rebroadcast other primary station signals.

The Commission seeks comment on these proposals.

7. The Commission seeks comment as to whether this window can be limited to AM incumbents, as proposed. The Commission tentatively concluded that this eligibility restriction is consistent with the rights of potential applicants under Ashbacker Radio Co. v. FCC, 326 U.S. 327 (1945), which establishes a right to a hearing when two bona fide applications are mutually exclusive. The United States Court of Appeals for the District of Columbia Circuit has held that 47 U.S.C. 309(e) “does not preclude the FCC from establishing threshold standards to identify qualified applicants and excluding those applicants who plainly fail to meet the standards.” Hispanic Information and Telecommunications Network v. FCC, 865 F.2d 1289, 1294 (D.C. Cir. 1989). Moreover, the subsequent enactment of auction authority under section 309(j) of the Communications Act, 47 U.S.C. 309(j), reaffirmed the Commission's “obligation in the public interest to continue to use . . . threshold qualifications . . . in order to avoid mutual exclusivity in application and licensing proceedings.” 47 U.S.C. 309(j)(6)(E).

8. The Commission believes that the proposed requirements outlined in the NPRM are narrowly tailored to address the daunting technical and competitive challenges that AM broadcasters face, to provide efficient and expeditious assistance to such broadcasters and, thus, to promote a more robust and sustainable AM broadcast service. These conditions would sharply limit the number of filings, resulting in fewer mutually exclusive proposals and faster application processing, and would also prevent speculative filings, an issue of some concern from the Commission's experience with the FM translator applications received in Auction 83. In contrast, an open window could frustrate the goal of providing expeditious relief to AM broadcasters. It will be necessary to undertake a close review of FM translator licensing rules before opening a general FM translator window. Although the Commission intends to revise the FM translator rules, and to provide further opportunities for all interested applicants to apply for FM translator permits, it has tentatively concluded that an applicant-limited and technically limited window such as proposed here will provide immediate benefits to the AM service without materially affecting future FM translator window applicants. The Commission invites comment on these tentative conclusions. Specifically, the Commission asks commenters to address the problems faced by AM stations in today's marketplace, whether a window such as that proposed would significantly alleviate any problems identified, and whether commenters believe that further modifications to the proposed parameters for the window are necessary to address those specific problems (for example, additional or different requirements to be met by potential applicants; limitation of eligibility to licensees or permittees of certain class stations, e.g., Class C and D stations only, or to “stand alone” AM stations). Commenters may also discuss their experiences with using FM translators to augment AM service under existing rules, and whether there are currently a sufficient number of FM translator stations that are technically suited to meet the demand for AM fill-in service. The Commission also requests that commenters address the impact of such an FM translator window on FM full-power licensees, small businesses, businesses owned by minority groups and women, other FM translator licensees, and low-power FM (LPFM) broadcasters. Are there any obstacles or disadvantages to opening an FM translator filing window exclusively for AM licensees and permittees?

9. Given the unqualified success of the Commission's introduction of cross-service FM translators in 2009, the Commission believes that a narrowly tailored filing window for such FM translators, as proposed herein, could yield significant public interest benefits with little to no detriment either to the FM translator service or to licensing opportunities for LPFM stations, especially since the filing window proposed here will follow the 2013 LPFM filing window. The Commission solicits comment on both the proposal to open a filing window and the operational details of such a window, as well as the effects on the FM, FM translator, and LPFM services. The Commission also seeks comment on whether, between the relaxation of the limitation on FM translators that can be used to rebroadcast AM station signals, and the AM-only FM translator window proposed here, there will no longer be a need for so-called “Mattoon Waivers.” If the Commission does end the Mattoon Waiver policy, should it be eliminated upon adoption of the proposed AM-only translator window or upon the opening of that window?

10. Modify Daytime Community Coverage Standards for Existing AM Stations. Under the daytime community coverage rule, a commercial radio station must provide daytime coverage to its entire community of license (47 CFR 73.24(i), 73.315(a)), although the Commission has a longstanding policy to waive the rule, so long as the requesting licensee makes an appropriate showing that it will encompass 80 percent of the community of license's area or population within the station's 5 mV/m contour. The Commission adopted this rule in order to provide sufficient signal coverage to the designated community of license. The Minority Media Telecommunications Council (MMTC), in a 2009 petition for rulemaking filed with the Commission, suggested that this rule, along with the inherent difficulties of finding suitable tower sites in urban areas, actually harms the public interest by “limit[ing] commercial stations from changing sites and making other improvements that benefit the public interest.” Review of Technical Policies and Rules Presenting Obstacles to Implementation of Section 307(b) of the Communications Act and to the Promotion of Diversity and Localism, MMTC Radio Rescue Petition for Rulemaking, RM-11565, at 15 (Jul. 20, 2009) (Radio Rescue Petition). If a commercial station wants to change its site or make improvements, it must demonstrate that the station would cover at least 80 percent of the community from the new site. MMTC maintains that this is often impossible and usually leads to protracted and resource-intensive waiver proceedings.

11. MMTC proposed that the Commission amend the daytime AM coverage standard to require a station to provide coverage to 50 percent of its community of license with a signal of at least 60 dBµ, contending that under this standard, the remaining 50 percent of the community, in nearly all cases, would still receive a very listenable signal. MMTC argued that the proposed rule modification could provide AM stations with greater flexibility in making station improvements without frustrating the rule's original purpose, and would provide AM broadcasters, including small, women, and minority broadcasters, with additional flexibility for site location. The Commission has previously noted that sites suitable for AM antennas are increasingly difficult (and expensive) to find. Additionally, when the Commission modified the community coverage rule for noncommercial educational (NCE) FM stations in 2000, it recognized that permitting NCE FM stations to cover 50 percent of the community of license “should ensure sufficient flexibility in siting facilities and reaching target audiences.” Streamlining of Radio Technical Rules in Parts 73 and 74 of the Commission's Rules, Second Report and Order, 15 FCC Rcd 21649, 21670 (2000).

12. While agreeing with MMTC that AM tower siting has become increasingly difficult, especially for those AM stations requiring multi-tower arrays and those located in and near large urban areas, the Commission also recognized the value of principal community coverage as part of the commitment to broadcast localism and the fair, efficient, and equitable distribution of radio service under 47 U.S.C. 307(b). The Commission stated its belief that an applicant for a new AM facility or change of community of license, as part of its due diligence when evaluating its proposal for new service, should specify a transmitter site that enables daytime and nighttime coverage under existing standards, namely, coverage of 100 percent of the community of license with a principal community signal (5 mV/m) during the day, and coverage of 80 percent of the community of license with a nighttime interference-free (NIF) signal at night. The Commission has previously held that AM coverage of less than 80 percent of the residential area of a community is generally considered to be inadequate, and saw no reason to allow an applicant proposing a new AM station or community of license change to propose facilities with sub-standard signal coverage. An applicant for a new AM station or community of license change should be able to evaluate whether it is able to secure transmission facilities that will enable it to provide adequate community coverage; if it cannot do so, it should not propose a new station. An existing station, however, especially one that has been in the same location for many years, may not have the same flexibility to provide community coverage, due to changes in city boundaries and population distribution, and perhaps due to the loss of unique transmitter sites and the unavailability of acceptable new sites.

13. The Commission therefore proposed to modify the daytime community coverage requirement contained in 47 CFR 73.24(i), for licensed AM facilities only, to require that the station cover either 50 percent of the population or 50 percent of the area of the community of license with a daytime 5 mV/m principal community signal. The Commission seeks comment on this proposed rule change. Specifically, what would be the effect on AM broadcasters and the public in general of modifying the rule? Commenters should describe and, if possible, quantify the costs and benefits of this proposal to broadcasters and the public. Would modifying the rule improve broadcaster flexibility in siting AM facilities and reaching target audiences? Would modification of the rule provide greater benefits to small AM stations and minority broadcasters? Conversely, would modification of the rule provide sub-standard signal quality to significant portions of a community of license? Would it be better to modify the daytime community coverage standard for all AM application types, including those for new stations and those seeking to change community of license? Alternatively, should the Commission retain the existing AM daytime coverage requirements for all stations, subject to waiver on an appropriate showing? The Commission asks that broadcasters discuss with specificity issues they have encountered when they try to comply with the daytime community coverage rule, particularly instances in which the rule may have prevented them from implementing beneficial station improvements.

14. Modify Nighttime Community Coverage Standards for Existing AM Stations. Under the Commission's current rules, many AM radio stations are required to reduce their power or cease operating at night in order to avoid interference to other AM radio stations. See 47 CFR 73.182. During daytime hours, AM signals travel principally by groundwave conduction over the surface of the earth, and generally can be heard within a maximum radius of 100 miles. However, at night AM signals that are broadcast at the same power level reflect from the ionosphere back to the earth, and can travel over hundreds of miles. Thus, if an AM station maintained its daytime operating power level at night, significant “skywave” interference to other AM stations would result. As a result, most AM radio stations are required by the Commission's rules to reduce their power, sometimes drastically, or to cease operating at night altogether to avoid interference to other AM stations. However, the Commission's nighttime coverage rule also requires that non-Class D AM broadcasters maintain a signal at night sufficient to cause 80 percent of the area or population of the broadcaster's principal community to be “encompassed by the nighttime 5 mV/m contour or the nighttime interference-free contour, whichever value is higher.” 47 CFR 73.24(i). Effectively, this means that AM broadcasters must continue serving the bulk of their community of license at night even though the Commission's rules mandate reduced maximum broadcast power levels.

15. In the Radio Rescue Petition, MMTC observed, first, that requiring separate coverage requirements for daytime and nighttime significantly reduces the transmitter sites available to an AM station. Although one site may be optimal for daytime coverage, it may not meet the specifications required to comply with the nighttime coverage rule. As a result, some stations must operate two separate sites in order to comply with the rule. Second, MMTC argues that the nighttime coverage rule makes it more difficult for an AM broadcaster to relocate its station's antenna. When an antenna site becomes unusable—for example, due to increased interference caused by urban development in the surrounding area—the station may attempt to move to a more remote site. This attempt might be unsuccessful because changes in community and population coverage would take the station out of compliance with the nighttime coverage rule. Third, the nighttime coverage rule provides an entry barrier by requiring that broadcasters either demonstrate substantial compliance with the rule in an application for a new site or submit a waiver request demonstrating that the FCC should grant an exception to the rule.

16. As stated above, the Commission acknowledged the difficulties faced by existing AM broadcasters with regard to antenna siting. It also recognized, however, the value of nighttime service to communities, especially those with little or no FM or other local nighttime AM service. In fact, because of their service limitations the Commission no longer authorizes new Class D AM stations, which are daytime-only or provide only secondary, unprotected nighttime service. 47 CFR 73.21(a)(3). The Commission also stated that applicants for new AM stations, or those proposing to change their community of license, should provide some level of nighttime service, for the same reasons set forth above in the daytime AM coverage section. That is, an applicant proposing new service or a new community of license should be able to base its decision on whether it can find a site from which it can provide the required coverage, whereas an incumbent station may be constrained from finding a new site from which to cover a community that may have grown since the station was first licensed. The Commission therefore tentatively concluded that the nighttime coverage requirement should be eliminated for existing licensed AM stations, and should be modified to require that new AM stations and AM stations seeking a change to their communities of license cover either 50 percent of the population or 50 percent of the area of the community of license with a nighttime 5 mV/m signal or an NIF contour, whichever value is higher. The Commission seeks comment on this proposal. Is the rule mandating minimum nighttime coverage for existing AM stations still necessary and desirable in light of the difficulties it poses and the number of waivers that are needed? What would be the benefit, if any, to AM broadcasters and to the public in general of eliminating the nighttime coverage requirement? What negative consequences to other AM stations or to the public in general, if any, would result from eliminating the rule? Would eliminating the rule, as MMTC has suggested, afford AM stations much greater flexibility in site selection and ability to move farther away from developed and costly downtown areas? Would eliminating the rule allow AM broadcasters to reduce their costs by improving their ability to move out of areas with high property values? Conversely, would eliminating the rule deprive communities of needed nighttime service? Should the Commission require the station's nighttime transmitter site and nighttime interference-free contour to be completely within the station's predicted daytime protected 0.5 mV/m or 2 mV/m contour, to ensure that the station serves at least part of the area in the vicinity of its community of license?

17. To the extent commenters believe that the nighttime coverage rule has continued utility, but perhaps merits modification other than that proposed here, they are asked to submit proposals for such modification, and to discuss how a modified nighttime coverage rule might benefit AM broadcasters and serve the public. For example, rather than eliminating the rule entirely, should the Commission consider relaxing the coverage requirement from 80 percent to 50 percent for existing stations, as the Commission did when adopting the rules for the AM expanded band, and as proposed above for daytime coverage? Would an across-the-board nighttime 50 percent coverage rule, as the Commission concluded in adopting the standard for the expanded AM band, insure a signal of significant quality to the community of license and the added flexibility to locate facilities at cost effective locations? Would the same be true for all AM broadcasters, whether in the standard or the expanded band? Alternatively, should the Commission retain the AM nighttime coverage requirements in their current form, subject to waiver on a case-by-case basis and on an appropriate showing? Would the waiver process impose a significant burden on broadcasters encountering difficulties in providing adequate nighttime service? Should nighttime coverage requirements be retained for those stations that are the sole local transmission service at a community, or that provide the only nighttime service to a community or to a substantial population? Commenters should describe and, if possible, quantify the costs and benefits to broadcasters and the public of any rule modifications they support or propose.

18. Eliminate the AM Ratchet Rule. Commission rules currently require that Class A and B stations comply with certain interference reduction requirements. One of these requirements is commonly known as the “ratchet rule.” This rule effectively requires that an AM broadcaster seeking to make facility changes, which would modify its AM signal, demonstrate that the improvements will result in an overall reduction in the amount of skywave interference that it causes to certain other AM stations. 47 CFR 73.182(a) n.1. In other words, the AM station proposing the modification must “ratchet back” its radiation at the pertinent vertical angle in the direction of certain other AM stations. The Commission adopted this rule to reduce interference in the AM band, but as discussed below, it appears that the rule may not have achieved its intended goal.

14. In 2009, two broadcast engineering firms filed a petition with the Commission proposing to eliminate the ratchet rule. Modification of Section 73.182(q), Footnote 1, to Promote Improvement of Nighttime Service by AM Radio Stations by Eliminating the “Ratchet Clause,” Petition for Rulemaking, RM-11560 (Aug. 25, 2009) (“Ratchet Rule Petition”). The petitioners contended that the ratchet rule since its inception has been a “serious impediment for stations wishing to make modifications to alleviate nighttime coverage difficulties due to noise and man-made interference.” Ratchet Rule Petition at second unnumbered page, paragraph 3. According to the petitioners, the ratchet rule tends to discourage service improvements in general, because a station seeking to improve its service by transmitter relocation, pattern change, or other means as a practical matter must reduce its power to comply with the rule. This, argued the petitioners, more often than not results in a net loss of nighttime interference-free service. Moreover, the petitioners contended that the rule unduly disadvantages AM stations that have been on the air the longest, and that therefore have the lowest nighttime interference levels and largest coverage areas, in favor of reducing interference to newer stations that agreed to accept existing levels of interference when they began operations.

15. Eight commenters on the Ratchet Rule Petition agreed that the ratchet rule should be repealed as it does not reduce harmful AM interference, and in fact inhibits AM facility modifications. The Commission's experience since the ratchet rule was adopted appears to bear out the arguments presented in the Ratchet Rule Petition and in the comments regarding the rule's efficacy. There is no dispute that the reduction in radiation required by the ratchet rule causes harm due to loss of nighttime coverage area to licensed stations that must relocate their transmitting facilities. Approximately 60 percent of the AM stations currently governed by the ratchet rule, and that apply to relocate their transmitting facilities, seek waiver of the rule in order to avoid nighttime coverage area losses so severe that the station could provide no more than nominal nighttime service. The Commission therefore tentatively concluded that the ratchet rule should be deleted, and proposed deleting note 1 to 47 CFR 73.182(q). The Commission seeks comment on this conclusion and proposed rule change. Is elimination of the ratchet rule both feasible and desirable? What would be the benefit to AM broadcasters, and to the listening public, of eliminating the rule? Would there be negative consequences to other AM stations and/or to listeners if the proposal to eliminate the ratchet rule were to be adopted? Does the ratchet rule, as the petitioners and commenters assert, tend to discourage service improvements in general? Conversely, does the ratchet rule continue to serve a valuable function in reducing the interference imposed by AM stations on other systems? Would elimination of the rule allow a broadcaster to change its facilities in ways that might increase the levels of interference that the broadcaster imposes on other stations beyond an acceptable threshold? Or are sufficient safeguards in place to prevent that result?

16. Alternatively, are there aspects of the ratchet rule that are worth retaining, such that the Commission should modify the rule instead of deleting it, and if so what modifications should be made? Commenters are asked to discuss their specific experiences with the ratchet rule and any instances in which the rule prevented them or their clients from making beneficial station improvements. Commenters should also describe and, if possible, quantify the costs and benefits of this proposal, and any suggested alternatives, to broadcasters and to their service to the public. To the extent commenters prefer modifying the ratchet rule to deleting it, they are urged to submit proposals for modifying the ratchet rule in order to allow broadcasters more latitude to make such improvements.

17. Permit Wider Implementation of Modulation Dependent Carrier Level Control Technologies. In September 2011, the Media Bureau released a Public Notice (MDCL Public Notice), in which it stated that it would permit AM stations, by rule waiver or experimental authorization, to use transmitter control techniques that vary either the carrier power level or both the carrier and sideband power levels as a function of the modulation level. This allows AM licensees to reduce power consumption while maintaining audio quality and their licensed station coverage areas. These techniques are known as Modulation Dependent Carrier Level (MDCL) control technologies or algorithms. There are two basic types of MDCL control technologies. In one, the carrier power is reduced at low modulation levels and increased at higher modulation levels. Adaptive Carrier Control (ACC), Dynamic Amplitude Modulation (DAM), and Dynamic Carrier Control (DCC) are examples of this type of MDCL control technology. In the other type, there is full carrier power at low modulation levels and reduced carrier power and sideband powers at higher modulation levels. Amplitude Modulation Companding (AMC) is this type of MDCL control technology. Use of any of these MDCL control technologies reduces the station's antenna input power to levels not permitted by 47 CFR 73.1560(a). The MDCL Public Notice permitted AM station licensees wanting to use MDCL control technologies to seek either a permanent waiver of 47 CFR 73.1560(a) for those licensees already certain of the particular MDCL control technology to be used, or an experimental authorization pursuant to 47 CFR 73.1510 (now governed by 47 CFR 5.203) for those licensees wishing to determine which of the MDCL control technologies would result in maximum cost savings and minimum effects on the station's coverage area and audio quality. Since release of the MDCL Public Notice, 33 permanent waiver requests and 20 experimental requests authorizing use of MDCL control technologies have been granted.

18. AM station licensees using MDCL control technologies have reported significant savings on electrical power costs and few, if any, perceptible effects on station coverage area and audio quality. Based on the absence of either reported negative effects of using MDCL control technologies or interference complaints from other AM stations, we tentatively conclude that use of MDCL control technologies reduces AM broadcasters' operating costs while maintaining a station's current level of service to the public, without interference to other stations. The Commission therefore proposed to amend 47 CFR 73.1560(a) to provide that an AM station may commence operation using MDCL control technology (MDCL control operation) without prior Commission authority, provided that the AM station licensee notifies the Commission of the station's MDCL control operation within 10 days after commencement of such operation using the Bureau's Consolidated Database System (CDBS). Additionally, regardless of the MDCL control technology employed, the Commission proposed to require that the AM station's transmitter must achieve full licensed power at some audio input level, or when the MDCL control technology is disabled. This requirement will permit stations to use energy-saving MDCL technologies, which preserve licensed coverage areas, while distinguishing between such operations and simple reductions in transmitter power, which do not. The Commission further proposed to require an AM station using MDCL control technology to disable it before field strength measurements on the station are taken by the licensee or others. The Commission seeks comment on this proposal, including the benefits and potential harms of this proposal to broadcasters and its impact on service to the public, as well as potential cost savings to broadcasters. The Commission also seeks comment as to what notice an AM licensee or permittee employing MDCL control technology should receive from the Commission prior to measurements or inspections by Commission staff, and as to what the AM station's obligations should be in such situations. AM stations not using MDCL control technologies are required to adhere to the limits on antenna input power currently specified in 47 CFR 73.1560(a). Comments are sought on the proposed rule change, as well as on the potential adverse effects of allowing AM stations to commence MDCL control technology operation without prior Commission authority. The Commission also seeks comment as to the potential adverse effects, if any, of MDCL control technology implementation on other AM stations.

19. Two domestic AM transmitter manufacturers currently offer MDCL control technologies for use with their transmitters. Other AM transmitter manufacturers may be developing MDCL control technologies for use with their transmitters and, reportedly, other third-party vendors offer or are planning to offer external MDCL control adapters. Should the Commission require an AM station licensee to use only an MDCL control technology developed and implemented by the manufacturer of the station's transmitter, or should it allow a station to use an MDCL control technology developed and implemented by another provider? Although the Commission currently does not require an AM station licensee to disclose the make and model of its transmitter, should it require an AM licensee commencing operation using MDCL control technology to inform the Commission of the make and model of its transmitter, as well as the particular MDCL control technology being used?

20. In the MDCL Public Notice, the Commission stated that initial tests by transmitter manufacturers showed that MDCL control technologies are compatible with hybrid AM digital operation at the transmitter; that the National Radio System Committee (NRSC) had recently convened a subcommittee to investigate the effects of MDCL control technologies on the hybrid AM digital signal, especially at the receiver; and that receiver compatibility tests were underway. Based on these facts, the Commission permitted AM stations operating hybrid AM digital facilities to implement MDCL control technologies, provided that the hybrid signal continues to comply with the spectral emissions mask requirements in 47 CFR 73.44, and that the relative level of the analog AM signal to the digital AM signal remains constant. In April 2013, the NRSC published the NRSC MDCL Guideline, in which it concluded that, “[c]onsidering the effect that MDCL has on the signal, as well as the practical limitations of transmitter technology, caution is advised when implementing hybrid AM IBOC with MDCL.” NRSC MDCL Guideline NRSC-G101, “AM Modulation-Dependent Carrier Level (MDCL) Usage Guideline,” at 16. The NRSC cites the potential for increased out-of-band emissions and reduction of signal quality of the hybrid AM digital signal when stations operating hybrid AM analog and digital facilities implement MDCL control technologies, and reports that further studies regarding the compatibility of MDCL control technologies and hybrid AM digital operation will be undertaken. Since the effects of MDCL control technology on hybrid AM digital operation have not been conclusively determined, and the Commission has received no interference complaints about AM stations operating with both MDCL control technology and hybrid digital facilities since release of the MDCL Public Notice, the Commission tentatively concluded that it should continue to permit all AM stations, including those operating hybrid AM analog and digital facilities, to implement MDCL control technologies without prior Commission authority. The continued operation of AM stations using MDCL control technology with hybrid AM digital facilities will allow further testing to determine the effect of the simultaneous use of MDCL control technologies and hybrid AM analog and digital facilities. The Commission seeks comment on this proposal.

20. Modify AM Antenna Efficiency Standards. The Commission's minimum efficiency standards impose minimum requirements regarding the effective field strength of AM broadcast stations. See 47 CFR 73.45, 73.186, 73.189. Under the Commission's rules, “[a]ll applicants for new, additional, or different AM station facilities and all licensees requesting authority to change the transmitting system site of an existing station must specify an antenna system, the efficiency of which complies with the requirements for the class and power of station.” 47 CFR 73.45(a). 47 CFR 73.189, which is referenced in 47 CFR 73.45(a), explains that to satisfy the efficiency requirements, an antenna system must “meet minimum height requirements, or . . . meet[] the minimum requirements with respect to field strength.” 47 CFR 73.189(b)(1). Thus, if an AM broadcaster's antenna does not satisfy the minimum height requirements, the broadcaster is required to ensure that the broadcast tower's effective field strength satisfies the minimum requirements contained in 47 CFR 73.184.

21. MMTC proposes that the Commission replace “minimum efficiency” for AM antennas with “minimum radiation” in mV/m, thereby allowing AM stations to use very short antennas and enjoy more flexibility in site selection, including rooftop installations. Radio Rescue Petition at 20. Under MMTC's formulation, an AM broadcaster would only be required to show that the broadcast station produces a certain minimum level of radiation, contending that if the minimum radiation is achieved, efficiency levels are immaterial. MMTC states that the minimum efficiency standard originated in the 1920s when electric power was in short supply but land was abundantly available; now, however, MMTC contends that the relative availability of land and electric power are exactly reversed, necessitating re-evaluation of the regulation. MMTC believes that the current rule works a hardship on lower-frequency stations because larger antennas are needed to meet the efficiency standards at lower frequencies, which have longer wavelengths. Replacing the minimum efficiency standard with a minimum radiation standard, according to MMTC, would allow AM stations to use very short antennas and enjoy more flexibility in site selection, which in turn will enable small businesses and entrepreneurs to continue their operations by increasing power and using less land, thus providing the opportunity to move closer to larger, more viable areas.

22. The Commission has previously observed that parcels of land suitable for AM towers and ground systems are less abundant and more expensive today than in the early days of radio broadcasting some 70-80 years ago, especially in and near urbanized areas. However, the Commission questioned MMTC's other premise, that electricity is more plentiful and more readily available, finding that it is not well established in the record of the Radio Rescue Petition proceeding. The Commission also observed that the MMTC proposal is unclear as to both the exact problems that MMTC perceives with current regulations, the specifics of the rule or rules it proposes to eliminate or replace, and why its proposed solution is preferable. While MMTC's proposal calls for a “minimum radiation” standard expressed in mV/m, current rules already provide such a standard as an alternative to the minimum antenna heights set forth therein. 47 CFR 73.189(b)(1) states that good engineering practice requires an AM applicant either “to install a new antenna system or to make changes in the existing antenna system which will meet the minimum height requirements, or submit evidence that the present antenna system meets the minimum requirements with respect to field strength, before favorable consideration will be given thereto.” Thus, for Class B, Class D, and Alaskan Class A AM stations, an antenna must either meet the minimum height requirements set forth in curves A, B, and C of Figure 7 of 47 CFR 73.190, or must provide a minimum effective field strength of 282 mV/m for 1 kilowatt at 1 kilometer from the transmitter. 47 CFR 73.189(b)(2)(ii). The rules already provide for non-standard antennas, as long as they meet minimum field strength standards. It is unclear how the current rules differ from MMTC's proposed “minimum radiation” standard.

23. However, while the record as to this proposal was not sufficiently developed to propose wholesale rule changes at this time, and accepting MMTC's claim that scarcity of land and height restrictions may restrict some AM broadcasters, especially those at lower frequencies and thus longer wavelengths, from installing antenna systems that can meet current Commission standards for AM transmissions, the Commission believed that reducing the existing minimum effective field strength values in 47 CFR 73.189(b) would offer AM broadcasters some relief by enabling them to propose shorter antennas. The Commission therefore seeks comment as to whether it should reduce the minimum field strength values set forth in 47 CFR 73.182(m) and 73.189(b)(2)(i)-(iii) by approximately 25 percent, and revise 47 CFR 73.182(m) and 73.189(b)(2) accordingly. 47 CFR 73.182(m) and Note (2), 73.189(b)(2)(i)-(iii). The new minimum field strength values would be as follows: for Class C stations, and stations in Alaska, Hawaii, Puerto Rico, and the U.S. Virgin Islands on 1230, 1240, 1340, 1400, 1450, and 1490 kHz that were formerly Class C and were redesignated as Class B pursuant to 47 CFR 73.26(b), the minimum effective field strength would be 180 mV/m for 1 kW at 1 km (90 mV/m for 0.25 kW at 1 km); for Class A (Alaska), Class B, and Class D stations other than those covered in 47 CFR 73.189(b)(2)(i), the minimum effective field strength would be 215 mV/m for 1 kW at 1 km; and for Class A stations, a minimum effective field strength of 275 mV/m for 1 kW at 1 km.

24. What would be the benefit to AM broadcasters, or to the listening public, of reducing these values? What would be the impact on the public and the ability of stations to provide service to their communities? Would some other reduction be more appropriate? Would modifying the current minimum efficiency standards have negative consequences for other AM stations or the public? Have broadcasters, in particular those with lower-frequency stations, experienced difficulties in complying with the current rules? Would the proposed rule modifications provide AM broadcasters with more flexibility in site selection? The Commission asks that broadcasters discuss their specific experiences with the minimum efficiency standards and any instances in which the rules prevented or impeded a station from changing location or using a lower-cost or more site-specific antenna system. The Commission also asks that commenters describe and, if possible, quantify the costs of the current minimum efficiency standards, and the corresponding benefits of this proposal or any suggested alternatives.

25. To the extent that commenters believe that the minimum field strength values should be reduced further, eliminated entirely, or that other rule modifications be employed to provide AM broadcasters the relief sought by MMTC, the Commission asks that commenters provide specifics as to any proposed replacement or alternative standard for AM transmission systems, including radiation and/or field strength standards, antenna input power, and minimum specifications for AM towers and ground systems, and the respective potential costs and benefits of such proposals. The Commission seeks comment on technical and policy considerations that may limit the extent to which it can lessen efficiency requirements; specifically, it also seeks comment as to the potential interference and stability ramifications of lower efficiency transmission systems. Would such systems produce higher levels of skywave, groundwave, blanketing, or other forms of interference? Are the methods described in the current rules sufficient to assess the performance of systems of electrically very short antennas, or would other rule changes be required to permit the use of such antennas? Would they produce excess heat that would harm the transmission systems? Would they produce greater amounts of radio frequency radiation, requiring amendments to the Commission's fencing and other rules? Is there a limit to the extent to which AM antenna systems' efficiency can be lowered, to the point where such systems are no longer stable and cannot produce predictable radiation patterns? If so, are there potential rule modifications that can afford AM broadcasters the flexibility to build less efficient antenna systems than those specified by the standards in the rules, but without allowing them to expend needless time and expense on ultimately unstable transmission systems? The Commission requests that commenters provide details as to any proposed rule modifications, additions, or deletions.

26. The Commission encourages all interested parties to comment on the specific proposals set forth in the NPRM, including the specific issues and questions posed by each, and to provide detailed analyses and exhibits in support of their comments. Commenters should describe and, to the extent possible, quantify both the costs and the benefits to the industry and to the public that would result from these proposals and any alternatives suggested in the comments. However, the foregoing proposals are not intended to be an exhaustive recitation of all the possible means of revitalizing the AM service. Rather, they constitute concrete proposals that can be implemented expeditiously to assist AM broadcasters in providing needed radio service to the public. The Commission recognizes that there are other ideas that have been proposed to assist in revitalizing AM radio. These include: changes to nighttime skywave protection for Class A AM stations; adopting rules to permit the permanent licensing of AM synchronous transmission systems; permitting or requiring stations to convert to all-digital AM operation; and modification of the pre-sunrise/post-sunset AM operating rules. These more complex suggested reforms would require additional comment, research, and analysis. The Commission therefore encourages parties to submit comments in this docket for the purpose of advancing these and other specific proposals to revitalize the AM service. In particular, the Commission asks parties to provide any proposals to improve the long-term future of the AM service, emphasizing that any such submissions should contain details as to the rule additions, deletions, or modifications sought, as well as specifics as to the reasons underlying any proposals submitted.

27. Comments and Reply Comments. Pursuant to §§ 1.415 and 1.419 of the Commission's rules (47 CFR 1.415, 1.419), interested parties must file comments on or before January 21, 2014, and must file reply comments on or before February 18, 2014. Comments may be filed using: (1) The Commission's Electronic Comment Filing System (ECFS); (2) the Federal Government's eRulemaking Portal, or (3) by filing paper copies.

28. Comments may be filed electronically using the Internet by accessing the ECFS: http://fjallfoss.fcc.gov/ecfs2/, or the Federal eRulemaking Portal: http://www.regulations.gov. Filers should follow the instructions provided on the Web sites for submitting comments. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet email. To get filing instructions for email comments, commenters should send an email to ecfs@fcc.gov, and should include the following words in the body of the message, “get form.” A sample form and directions will be sent in response.

29. Parties who choose to file by paper must file an original and one copy of each filing. If more than one docket or rulemaking number appears in the caption of this proceeding, filers must submit two additional copies for each additional docket or rulemaking number. Filings can be sent by hand or messenger delivery, by commercial overnight courier, or by first-class or overnight U.S. Postal. All filings must be addressed to the Commission's Secretary, Office of the Secretary, Federal Communications Commission.

30. All hand-delivered or messenger-delivered paper filings for the Commission's Secretary must be delivered to FCC Headquarters at 445 12th Street SW., Room TW-A325, Washington, DC 20554. The filing hours at this location are 8:00 a.m. to 7:00 p.m. All hand deliveries must be held together with rubber bands or fasteners. Any envelopes must be disposed of before entering the building.

31. Commercial overnight mail (other than U.S. Postal Service Express Mail and Priority Mail) must be sent to 9300 East Hampton Drive, Capitol Heights, MD 20743. U.S. Postal Service first-class, Express, and Priority Mail must be addressed to 445 12th Street SW., Washington, DC 20554.

32. To request materials in accessible formats for people with disabilities (Braille, large print, electronic files, audio format), send an email to fcc504@fcc.gov, or call the Consumer & Governmental Affairs Bureau at 202-418-0530 (voice), 202-418-0432 (TTY).

33. The full text of the Notice of Proposed Rulemaking is available for inspection and copying during normal business hours in the FCC Reference Information Center, Room CY-A257, 445 12th Street SW., Washington, DC 20554. The complete text may be purchased from the Commission's copy contractor, Best Copy and Printing, Inc., 445 12th Street SW., Room CY-B402, Washington, DC 20554. The full text may also be downloaded at: http://hraunfoss.fcc.gov/edocs_public/attachmatch/FCC-09-30.pdf. Alternative formats are available to persons with disabilities by contacting Martha Contee at (202) 418-0260 or TTY (202) 418-2555.

34. Ex Parte Rules. The proceeding this NPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

35. Initial Regulatory Flexibility Analysis. The Regulatory Flexibility Act of 1980, as amended (RFA), requires that a regulatory flexibility analysis be prepared for notice and comment rule making proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

36. As required by the RFA, 5 U.S.C. 603, the Commission has prepared this Initial Regulatory Flexibility Analysis (IRFA) of the possible significant economic impact on a substantial number of small entities by the policies proposed in the NPRM. Written public comments are requested on this IRFA. Comments must be identified as responses to the IRFA and must be filed by the deadlines for comments on the NPRM set forth above. The Commission will send a copy of this entire NPRM, including this IRFA, to the Chief Counsel for Advocacy of the Small Business Administration (SBA). See 5 U.S.C. 603(a). In addition, the NPRM and the IRFA (or summaries thereof) will be published in the Federal Register. Id.

37. Need For, and Objectives of, the Proposed Rules. This rulemaking proceeding is initiated to obtain further comments concerning certain proposals designed to revitalize the AM broadcast radio service. It is based in part on proposals raised in Petitions for Rule Making filed by various parties, including duTreil, Lundin & Rackley, Inc., Hatfield & Dawson Consulting Engineers, LLC, and the Minority Media and Telecommunications Council. Specifically, the Commission seeks comment on the following: (1) Whether to open a one-time window for AM licensees and permittees to apply for FM translator stations to fill in parts of their signal contours; (2) whether to reduce the daytime community signal coverage requirements for existing AM stations to 50 percent of the area of the community of license or 50 percent of the community's population; (3) whether to eliminate the nighttime community coverage requirement for all AM stations; (4) whether to eliminate the AM “ratchet rule,” which requires an AM broadcaster seeking to make changes, which would modify its AM signal, to demonstrate that the improvements will result in an overall reduction in the amount of skywave interference that it causes to certain other AM stations; (5) whether to allow AM broadcasters to commence operation using MDCL control technologies without prior Commission authorization, by notifying the Commission within 10 days after initiating such operation; and (6) whether to modify the Commission's AM antenna efficiency standards by reducing the minimum field strength values set forth in the rules. Additionally, the Commission seeks comment on any additional proposals designed to reduce burdens upon AM broadcasters, or to enhance AM service to the public.

38. Legal Basis. The authority for this proposed rulemaking is contained in sections 1, 2, 4(i), 303, 307, and 309(j) of the Communications Act of 1934, 47 U.S.C. 151, 152, 154(i), 303, 307, and 309(j).

39. Description and Estimate of the Number of Small Entities to Which the Proposed Rules Will Apply. The RFA directs the Commission to provide a description of and, where feasible, an estimate of the number of small entities that will be affected by the proposed rules. 5 U.S.C. 603(b). The RFA generally defines the term “small entity” as encompassing the terms “small business,” “small organization,” and “small governmental entity.” 5 U.S.C. 601(6). In addition, the term “small business” has the same meaning as the term “small business concern” under the Small Business Act. 5 U.S.C. 601(3). A small business concern is one which: (1) Is independently owned and operated; (2) is not dominant in its field of operation; and (3) satisfies any additional criteria established by the Small Business Administration (SBA). 15 U.S.C. 632.

40. Radio Stations. The proposed policies could apply to radio broadcast licensees, and potential licensees of radio service. The SBA defines a radio broadcast station as a small business if such station has no more than $7 million in annual receipts. See 13 CFR 121.201, NAICS Code 515112. Business concerns included in this industry are those primarily engaged in broadcasting aural programs by radio to the public. Id. According to Commission staff review of the BIA Publications, Inc. Master Access Radio Analyzer Database as of August 2, 2013, about 10,811 (97 percent) of 11,162 commercial radio station have revenues of $7 million or less and thus qualify as small entities under the SBA definition. In assessing whether a business concern qualifies as small under the above definition, business (control) affiliations must be included. 13 CFR 121.103(a)(1). Our estimate, therefore, likely overstates the number of small entities that might be affected by our action, because the revenue figure on which it is based does not include or aggregate revenues from affiliated companies. In addition, an element of the definition of “small business” is that the entity not be dominant in its field of operation. We are unable at this time to define or quantify the criteria that would establish whether a specific radio station is dominant in its field of operation. Accordingly, the estimate of small businesses to which rules may apply do not exclude any radio station from the definition of a small business on this basis and therefore may be over-inclusive to that extent. Also as noted, an additional element of the definition of “small business” is that the entity must be independently owned and operated. We note that it is difficult at times to assess these criteria in the context of media entities and our estimates of small businesses to which they apply may be over-inclusive to this extent.

41. FM translator stations and low power FM stations. The proposed policies could affect licensees of FM translator stations, as well as potential licensees in this radio service. The same SBA definition that applies to radio broadcast licensees would apply to these stations. The SBA defines a radio broadcast station as a small business if such station has no more than $7 million in annual receipts. See 13 CFR 121.201, NAICS Code 515112. Currently, there are approximately 6,053 licensed FM translator and booster stations. In addition, there are approximately 646 applicants with pending applications filed in the 2003 translator filing window. Given the nature of these services, we will presume that all of these licensees and applicants qualify as small entities under the SBA definition.

42. Description of Projected Reporting, Recordkeeping and Other Compliance Requirements. The proposed rule and procedural changes may, in some cases, impose different reporting requirements on potential radio licensees and permittees, insofar as they would require or allow certain AM applicants to demonstrate their qualifications to apply for an FM translator station meeting the current rules for FM translator use by AM stations. However, the information to be filed is already familiar to broadcasters, and the specific information requested to apply for a new FM translator station involves engineering similar to that of full-power FM stations (and, in fact, less complex than the engineering for a full-power AM station), so any additional burdens would be minimal. Reducing the AM daytime signal coverage requirements should not increase burdens on AM broadcasters; they would still have to calculate their signal contours and the populations covered, but the percentage of the community that must be covered would be lower, so to the extent that broadcasters find it difficult to cover 80 to 100 percent of the community of license with a 5 mV/m signal, burdens should be decreased. Likewise, eliminating the nighttime community coverage requirement will decrease burdens on AM broadcasters, who would no longer have to provide calculations of their nighttime interference-free or 5 mV/m contours. Elimination of the “ratchet rule” would substantially decrease burdens on AM broadcasters seeking to make changes to their facilities, by eliminating the requirement that they reduce skywave interference to certain other broadcasters. Should the Commission adopt its proposal to allow AM broadcasters to use MDCL technologies without prior authorization, this would reduce burdens on such broadcasters, who would no longer have to apply for waivers or experimental authorizations, but would need only to inform the Commission through the Media Bureau's electronic Consolidated Data Base System (CDBS). Finally, if the Commission were to adopt its proposal to reduce the minimum efficiency standards for AM broadcasters, this would reduce burdens on such broadcasters by affording them more flexibility in antenna siting and construction.

43. Steps Taken to Minimize Significant Impact on Small Entities, and Significant Alternatives Considered. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603(b). In the NPRM, the Commission seeks to assist AM broadcasters by providing them with an opportunity to acquire single-purpose FM translator stations to fill in their signal contours; by providing relief from community signal coverage requirements (day and night) which may have become problematic due to geographic and population shifts and a dearth of land suitable for AM transmission systems; by eliminating the “ratchet rule” that imposes interference-amelioration requirements as a quid-pro-quo for certain facility improvements, but which has had the effect of discouraging such improvements; by simplifying the process of initiating energy-saving MDCL technologies; and by reducing the minimum effective field strength values for AM stations. The Commission seeks comment as to whether its goal of revitalizing the AM service could be effectively accomplished through these means. The Commission is open to consideration of alternatives to the proposals under consideration, as set forth herein, including but not limited to alternatives that will minimize the burden on AM broadcasters, most of whom are small businesses. There may be unique circumstances these entities may face, and we will consider appropriate action for small broadcasters when preparing a Report and Order in this matter.

44. Federal Rules Which Duplicate, Overlap, or Conflict With, the Commission's Proposals. None.

45. To request materials in accessible formats for people with disabilities (Braille, large print, electronic files, audio format), send an email to fcc504@fcc.gov, or call the Consumer & Governmental Affairs Bureau at 202-418-0530 (voice), 202-418-0432 (TTY).

Federal Communications Commission.
Marlene H. Dortch,
Secretary.

[FR Doc. 2013-27838 Filed 11-19-13; 8:45 am]

BILLING CODE 6712-01-P